ENVIRONMENTAL PROTECTION AGENCY

[FRL-7255-1]

Relocation of EPA Headquarter Dockets; Temporary Closures

AGENCY: Environmental Protection Agency (EPA).

ACTION: Notice.

SUMMARY: EPA is announcing the temporary closure and relocation of the Agency's Headquarter Dockets. EPA is consolidating the Headquarter paper docket facilities, that are identified in this document, into a combined docket facility to be known as the “EPA Docket Center” (EPA/DC). This new facility will be located in the basement of the EPA West Building at 1301 Constitution Ave., NW, Washington, DC. In order to prepare for this relocation, the various docket facilities, identified in this document, will be closed to the public at various times between the dates of Tuesday, August 13, 2002, through Monday, August 26, 2002. EPA expects each of the dockets located in the new EPA/DC to be open starting Tuesday, August 27, 2002, from the hours of 8:30 a.m. until 4:30 p.m. Eastern Standard Time (EST), or by appointment. This document provides additional details related to the relocation of EPA Headquarter dockets.

FOR FURTHER INFORMATION CONTACT: Patrick Grimm, Information Strategies Branch, Collection Strategies Division, Office of Environmental Information, Environmental Protection Agency, Mailcode 2822T, 1200 Pennsylvania Ave., NW, Washington, DC 20460; telephone number: 202-566-1677; fax number: 202-566-1639; email address: grimm.patrick@epa.gov.

SUPPLEMENTARY INFORMATION:

What Docket Facilities Are Affected?

In order to efficiently complete the relocation of the following physical Headquarter dockets, the docket facilities will be closed to the public as follows:

Aug. 16-26: OAR Docket (supporting the Clean Air Act [CAA])

Aug. 21-26: OECA Docket

Aug. 14-26: OEI Docket (supporting the Toxic Release Inventory [TRI])

Aug. 14-26: OPPT Docket, Non-Confidential Information Center (supporting the Toxic Substances Control Act [TSCA])

Aug. 19-26: OSWER Docket and Information Center (supporting the Resource Conservation and Recovery Act [RCRA], the Comprehensive Environmental Response, Compensation, and Liability Act [CERCLA], and the Oil Pollution Act [OPA])

Aug. 13-26: OW Docket (supporting the Clean Water Act [CWA] and the Safe Drinking Water Act [SDWA])

The Office of Pesticide Programs (OPP) Public Regulatory Docket (supporting the Federal Insecticide, Fungicide and Rodenticide Act [FIFRA]), located in Arlington, VA, is not moving at this time and will remain open to the public.

This temporary closure will enable EPA to effectively transfer docket collections, while ensuring document integrity. By moving into this consolidated environment, the Agency intends to improve the docket's internal workflow processes and enhance customer service and public access to information. A central facility for most EPA Headquarter dockets will offer the public both convenience and efficiency, enabling citizens to access multiple program dockets and conduct cross-docket searches from one location.

How Can I Submit Comments During the Closure?

During the closure, each docket will continue to receive comments via the U.S. Postal Service at the EPA Headquarters mailing address: 1200 Pennsylvania Ave., NW, Washington, DC 20460. These dockets will be closed, however, for receiving personal or courier deliveries at their current locations. During the scheduled docket closures, public comments may be submitted in person or by courier to Patrick Grimm, EPA West, Room 6146B, 1301 Constitution Ave. NW, Washington, DC. Beginning August 27, 2002, hand-delivered comments should be delivered to the new EPA Docket Center (EPA/DC), EPA West, Room B102, 1301 Constitution Ave. NW, Washington, DC. Online receipt of public comments transmitted through the Agency's electronic docket and commenting system, EPA Dockets (EDOCKET) http://www.epa.gov/edocket, will not be affected during the physical docket move.

How Can I Access Material in the Dockets During the Closure?

EDOCKET may contain electronic copies of support documentation and background materials for some regulatory and non-regulatory dockets. If a particular document is not available electronically, but must be viewed in person during the period of time dockets are closed, special arrangements may be made by calling the appropriate contact from the following list:

OAR Docket: Lorraine Reddick-Smith (202) 564-1293

OECA Docket: Carlton Burns (202) 564-8231

OEI Docket: Patrick Grimm (202) 566-1677

OPPT Docket: Vanessa Williams (202) 564-8957

OSWER Docket: Scott Maid (703) 308-8029

OW Docket: Gloria Posey (202) 564-0465

Since access to the docket materials may be limited given the activities associated with the relocation, EPA appreciates your patience and asks that you limit requests to true emergencies.

What Dockets Are Currently Open for Public Comment?

The following is a list of rules/notices that are expected to be open for public comment during the scheduled docket closure periods. This listing, which identifies the docket ID number for the item, is not expected to be complete and the program docket should be contacted if a more detailed and current listing of open dockets is necessary.

OAR Docket

A-2000-50: National Emission Standards for Hazardous Air Pollutants for Refractory Products Manufacturing

A-97-52: National Emission Standards for Hazardous Air Pollutants; Surface Coating of Wood Building Products

OPPT Docket

OPPT-2002-0040: Certain New Chemicals; Receipt and Status Information

OSWER Docket

RCRA-1999-0011: Management of Cement Kiln Dust—Notice of Data Availability

RCRA-2002-0019: NESHAP: Standards for Hazardous Air Pollutants for Hazardous Waste Combustors (Final Replacement Standards and Phase II)—Notice of Data Availability

RCRA-2002-0021: Agency Collection Activities: Continuing Collection; Comment Request; Notification of Regulated Waste Activity

RCRA-2002-0022: Agency Collection Activities: Proposed Collection; Comment Request; National Waste Minimization Partnership Program

RCRA-2002-0023: Agency Information Collection Activities: Continuing Collection; Comment Request; Information Collection Request for RCRA Reporting and Recordkeeping Requirements for Incinerators, Boilers and Industrial Furnaces Burning Hazardous Waste

SFUND-2002-004: Contaminated Sediments Science Plan—Notice

OW Docket

W-99-18: Standards for the Use or Disposal of Sewage Sludge

W-02-06: Effluent Limitation Guidelines and New Source Performance Standards for the Construction and Development Category

W-00-27: Notice of Data Availability; National Pollutant Discharge Elimination System Permit Regulation and Effluent Limitations Guidelines and Standards for Concentrated Animal Feeding Operations (CAFO)

Dated: July 30, 2002.
Mark Luttner,
Office of Information Collection, Office of Environmental Information.

[FR Doc. 02-19565 Filed 8-1-02; 8:45 am]

BILLING CODE 6560-50-P